DEPARTMENT OF JUSTICE

Notice of Lodging of a Consent Decree Pursuant to the Clean Water Act

Notice is hereby given that a proposed Consent Decree in United States of America and the State of Tennessee v. City of Chattanooga, Tennessee, Civ. No. 1:12-cv-00245, was lodged on July 17, 2012 with the United States District Court for the Eastern District of Tennessee, Chattanooga Division.

The proposed Consent Decree would resolve certain claims under Sections 301, 309 and 402 of the Clean Water Act, 33 U.S.C. 1251, et seq., against the City of Chattanooga (“City” or “Chattanooga”), through the performance of injunctive measures, the payment of a civil penalty, and the performance of Supplemental Environmental Projects (“SEPs”). The United States and the State of Tennessee allege that the City is liable as a person who has discharged a pollutant from a point source to navigable waters of the United States without a permit and, in some cases, in excess of permit limitations.

The proposed Consent Decree would resolve the liability of Chattanooga for the violations alleged in the complaint filed in this matter. To resolve these claims, Chattanooga would perform the injunctive measures as described in the proposed Consent Decree. More specifically, the proposed consent decree will require Chattanooga to comprehensively assess and rehabilitate its entire sewer collection system to eliminate overflows of untreated raw sewage. Chattanooga will perform rehabilitation projects to address known problems within the collection system; implement programs to ensure proper management, operation and maintenance of its sewer systems; and install additional controls on the Chattanooga Creek combined sewer outfalls to ensure compliance with water quality standards.

In addition, Chattanooga would pay a civil penalty of $476,400. The penalty will be split evenly between the United States and the State. The City will pay $238,200 to the United States Treasury. At the direction of the state, the other half of the civil penalty will be paid by Chattanooga through the performance of green infrastructure demonstration projects. In addition, Chattanooga has agreed to perform a stream restoration supplemental environmental project at a cost of $800,000.

The Department of Justice will receive comments relating to the proposed Consent Decree for a period of thirty (30) days from the date of this publication. Comments should be addressed to the Assistant Attorney General, Environment and Natural Resources Division, and either emailed to pubcomment-ees.enrd@usdoj.gov or mailed to P.O. Box 7611, U.S. Department of Justice, Washington, DC 20044-7611 and should refer to United States of America and the State of Tennessee v. City of Chattanooga, DJ No. 90-5-1-1-10145.

The proposed Consent Decree may be examined at the Region 4 Office of the Environmental Protection Agency, Atlanta Federal Center, 61 Forsyth Street SW., Atlanta GA 30303. During the public comment period, the decree may also be examined on the following Department of Justice Web site, http://www.usdoj.gov/enrd/Consent_Decrees.html. A copy of the decree may also be obtained by mail from the Consent Decree Library, P.O. Box 7611, U.S. Department of Justice, Washington, DC 20044-7611, or by faxing or emailing a request to “Consent Decree Copy” (EESCDCopy.enrd@usdoj.gov), fax no. (202) 514-0097, phone confirmation number (202) 514-5271. In requesting a copy from the Consent Decree Library, please refer to United States of America and the State of Tennessee v. City of Chattanooga, (proposed Consent Decree, DOJ Ref. No. 90-5-1-1-10145), and enclose a check in the amount of $75.25 (25 cents per page reproduction cost) payable to the U.S. Treasury or, if by email or fax, forward a check in that amount to the Consent Decree Library at the stated address.

Henry S. Friedman,
Assistant Section Chief, Environmental Enforcement Section, Environment and Natural Resources Division.

[FR Doc. 2012-18267 Filed 7-25-12; 8:45 am]

BILLING CODE 4410-15-P